DEPARTMENT OF THE INTERIOR

Bureau of Land Management

[AZ040-03-7122-EX-5513; AZA-29640 & AZA-31133]

Notice of Availability of Final Environmental Impact Statement (FEIS) for the Dos Pobres/San Juan Project, Graham County, AZ

AGENCY: Bureau of Land Management, Interior.

ACTION: Notice of Availability (NOA) of Final Environmental Impact Statement (FEIS).

SUMMARY: The Bureau of Land Management (BLM), Safford Field Office, Arizona, has prepared an FEIS analyzing the impacts on the human environment of a mining plan of operation proposed by the Phelps Dodge Mining Company, a division of the Phelps Dodge Corporation. The Dos Pobres/San Juan Project is located approximately 8 miles north of Safford, Arizona. The FEIS (1) assesses the environmental impacts of the project as described in the three mining plan alternatives (Proposed Action, Partial Backfill, and No Action) and two land exchange alternatives (Land Exchange and No Land Exchange); (2) determines if there are direct, indirect and cumulative impacts; and (3) identifies mitigative measures. The FEIS was prepared to comply with the Council on Environmental Quality's regulations (40 CFR part 1500-1508) for implementing the National Environmental Policy Act of 1969, 43 U.S.C. 1701, the Federal Land Exchange Facilitation Act of 1988, 43 U.S.C. 1716 and 1740, and BLM regulations governing land exchanges (43 CFR parts 2090 and 2200) and mining plans of operation (43 CFR parts 3715 and 3809).

DATES: The Record of Decision for this project will not be issued prior to 60-days following the Environmental Protection Agency (EPA) publication of its NOA of the Final Environmental Impact Statement for the Dos Pobres/San Juan Project, Graham County, AZ.

ADDRESSES: A limited number of copies of the FEIS are available and copies may also be reviewed at the Bureau of Land Management, Safford Field Office, 711 14th Avenue, Safford, Arizona 85546 or the Bureau of Land Management, Arizona State Office, 222 North Central Avenue, Phoenix, Arizona 85004.

FOR FURTHER INFORMATION CONTACT: Scott Evans, Project Manager, at BLM Safford Field Office, telephone number (928) 348-4414; or Tina Lee, Project Manager, at SWCA, Inc., telephone number (520) 325-9194.

SUPPLEMENTARY INFORMATION: The proposed Dos Pobres/San Juan Project is an integrated copper mining project using conventional open pit mining and solution extraction/electro winning technologies to meet a continuing demand for copper. The BLM's preferred alternative is the Land Exchange alternative (Alternative 2.2.2) in which Phelps Dodge acquires title to the selected lands and BLM acquires title to the offered private lands.

Chapter 7 of the FEIS summarizes public comments on the draft environmental impact statement (DEIS) and BLM responses to the comments.

The U.S. Army Corps of Engineers (COE), a cooperating agency on the Dos Pobres/San Juan Project EIS, has jurisdiction over the Project through its Clean Water Act permitting authority and will select as its preferred alternative the least environmentally damaging, practicable alternative from the Mining Plan Alternatives Set.

The EPA, also a cooperating agency, delegated authority for section 402 compliance to the Arizona Department of Environmental Quality (ADEQ) in December 2002; therefore ADEQ will be issuing the AZPDES permit for this project.

Dated: August 5, 2003.
Frank Rowley,
Acting Field Office Manager.

[FR Doc. 03-30765 Filed 12-11-03; 8:45 am]

BILLING CODE 4310-32-P